NUCLEAR REGULATORY COMMISSION

[Docket Nos. 50-315 and 50-316]

Indiana Michigan Power Company; Notice of Receipt of Application for Renewal of Donald C. Cook Nuclear Plant, Units 1 and 2 Facility Operating License Nos. DPR-58 and DPR-74 for an Additional 20-Year Period

The U.S. Nuclear Regulatory Commission (NRC or Commission) has received an application, dated October 31, 2003, from the Indiana Michigan Power Company, filed pursuant to Section 104b of the Atomic Energy Act of 1954, as amended, and 10 CFR Part 54, to renew Operating License Nos. DPR-58 and DPR-74 for the Donald C. Cook Nuclear Plant, Units 1 and 2. Renewal of the license would authorize the applicant to operate the facility for an additional 20-year period. The current operating licenses for the D.C. Cook Nuclear Plant, Units 1 and 2, expire on October 25, 2014 and December 23, 2017, respectively. The D.C. Cook Nuclear Plant, Units 1 and 2, are pressurized-water reactors designed by Westinghouse Electric Corporation, and are located in Berrien County, Michigan. The acceptability of the tendered application for docketing, and other matters including an opportunity to request for a hearing, will be addressed in subsequent Federal Register notices.

Copies of the application are available for public inspection at the Commission's Public Document Room (PDR), located at One White Flint North, 11555 Rockville Pike (first floor), Rockville, Maryland, or electronically from the Publicly Available Records (PARS) component of the NRC's Agencywide Documents Access and Management System (ADAMS) under accession number ML033070179. The ADAMS Public Electronic Reading Room is accessible from the NRC Web site at http://www.nrc.gov/reading-rm/adams.html. In addition, the application is available on the NRC Web page at http://www.nrc.gov/reactors/operating/licensing/renewal/applications.html, while the application is under review. Persons who do not have access to ADAMS or who encounter problems in accessing the documents located in ADAMS, should contact the NRC's PDR Reference staff at 1-800-397-4209, 301-415-4737, or by e-mail to pdr@nrc.gov.

The staff has also verified that a copy of the license renewal application for the Donald C. Cook Nuclear Plant has been provided to the Bridgman Public Library, at 4460 Lake Street, Bridgman, Michigan and the Maud Preston Palenske Memorial Library, at 500 Market Street, St. Joseph, Michigan.

Dated at Rockville, Maryland, this 4th day of November, 2003.
For the Nuclear Regulatory Commission.
John R. Tappert,
Acting Program Director, License Renewal and Environmental Impacts, Division of Regulatory Improvement Programs, Office of Nuclear Reactor Regulation.

[FR Doc. 03-28185 Filed 11-7-03; 8:45 am]

BILLING CODE 7590-01-P